NATIONAL FOUNDATION FOR THE ARTS AND THE HUMANITIES

Institute of Museum and Library Services

Submission for OMB Review, Comment Request, Proposed Collection: Measures That Matter—Assessing Public Libraries' Activities Related to Workforce Development

AGENCY: Institute of Museum and Library Services, National Foundation for the Arts and the Humanities.

ACTION: Submission for OMB review, comment request.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the Measures that Matter—Assessing Public Libraries' Activities Related to Workforce Development. A copy of the proposed information collection request can be obtained by contacting the individual listed below in the FOR FURTHER INFORMATION CONTACT section of this Notice.

DATES: Written comments must be submitted to the office listed in the ADDRESSES section below on or before December 10, 2021.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Matthew Birnbaum, Supervisory Social Scientist, Office of Research and Evaluation, Institute of Museum and Library Services, 955 L'Enfant Plaza North SW, Suite 4000, Washington DC 20024-2135. Dr. Birnbaum can be reached by telephone at 202-653-4760 or by email at mbirnbaum@imls.gov. Persons who are deaf or hard of hearing (TTY users) can contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. To learn more, visit www.imls.gov.

Current Actions: This Notice proposes the clearance of Measures that Matter—Assessing Public Libraries' Activities Related to Workforce Development. The 60-day Notice was published in the Federal Register on August 20, 2020 (85 FR 51496). The agency received two comments, each requesting copies of the data collection instrument. The agency provided the requested document on November 4, 2021.

IMLS, in partnership with the Chief Officers of State Library Associations (COSLA), launched Measures that Matter in 2016, an initiative for coordinating conversations about existing approaches to gathering and using data to improve alignment of public library services, programs, and collections with communities' needs and emerging opportunities. An outgrowth of this effort, this proposed assessment will study the contributions of public library-based workforce development activities including their coordinated efforts to deliver and measure these services across outlets and with community partners. This proposed investigation will identify a purposive sample of public libraries and complete case studies about them using a mix of research methods involving reviews of secondary and administrative data and interviews with library staff and their respective workforce development partners. These case studies will inform future opportunities for IMLS to examine in greater detail the ways in which public libraries are situated within a larger workforce development ecosystem.

Agency: Institute of Museum and Library Services.

Title: Measures that Matter—Assessing Public Libraries' Activities Related to Workforce Development.

OMB Control Number: 3137-NEW.

Agency Number: 3137.

Affected Public: Public Libraries, Local Workforce and Business Development Organizations, Local Civic Leaders, Local Governments.

Total Number of Respondents: 130.

Frequency of Response: Once per request.

Average Minutes per Response: 45 minutes.

Total Burden Hours: 97.5.

Total Annualized Capital/Startup Costs: n/a.

Total Annual Cost Burden: $2,663.93.

Total Annual Federal Costs: $170,260.

Dated: November 5, 2021.
Suzanne Mbollo,
Grants Management Specialist, Institute of Museum and Library Services.

[FR Doc. 2021-24570 Filed 11-9-21; 8:45 am]

BILLING CODE 7036-01-P